DEPARTMENT OF COMMERCE

International Trade Administration

Overseas Trade Missions

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

Textile Trade Mission to Mexico

Mexico City and Guadalajara, October 23-25, 2002, Recruitment closes on August 30, 2002

For further information contact: Ms. Rachel Alarid, U.S. Department of Commerce, telephone (202) 482-5154, e-mail Rachel_Alarid@ita.doc.gov. or Ms. Pamela Kirkland, U.S. Department of Commerce, telephone (202) 482-3587, e-mail Pamela_Kirkland@ita.doc.gov.

Medical Device Trade Mission to Vietnam, Thailand, Malaysia, and Singapore

Hanoi, Ho Chi Minh City, Bangkok, Kuala Lumpur, Singapore, March 23 to April 3, 2003, Recruitment closes on February 7, 2003

For further information contact: Ms. Lisa C. Huot, U.S. Department of Commerce, telephone 202-482-2796, e-mail Lisa_Huot@ita.doc.gov.

FOR FURTHER INFORMATION CONTACT: Mr. Thomas Nisbet, U.S. Department of Commerce, telephone 202-482-5657, or e-mail Tom_Nisbet@ita.doc.gov.

Dated: July 23, 2002.
Thomas H. Nisbet,
Director, Export Promotion Coordination, Office of Planning, Coordination and Management.

[FR Doc. 02-19147 Filed 7-29-02; 8:45 am]

BILLING CODE 3510-DR-P